Proclamation 9610 of May 12, 2017

National Defense Transportation Day and National Transportation Week, 2017

By the President of the United States of America

A Proclamation

During National Defense Transportation Day and National Transportation Week, we celebrate our Nation's land, air, and sea infrastructure systems. These critical systems connect Americans to one another, provide vital national security capabilities, and serve as a cornerstone of our economy. We also recognize the transportation professionals who are dedicated to keeping our Nation's transportation networks secure, efficient, and reliable.

Quality infrastructure provides Americans with the freedom they need and deserve to move themselves and their families, and the vast array of products they want to buy and sell. But in too many cases, our roads, waterways, bridges, airports, and mass transit systems have fallen into disrepair. That is why my Administration is committed to rebuilding a world-class transportation infrastructure that works for all Americans.

Revitalizing our infrastructure is all the more important because American transportation enhancements have played and will continue to play a critical role in our national defense. During World War II, our ability to refuel ships at sea was, in the words of Admiral Chester Nimitz, the “Navy's secret weapon.” Today, our military logistics system is essential to the defense of our homeland and our ability to project power around the world.

To remain effective, the transportation industry must constantly innovate. That is why, in addition to rebuilding our current infrastructure, my Administration is removing regulatory hurdles that have, for too long, impeded necessary infrastructure improvements. This will allow creative companies to transform how we use our roads, waterways, rails, and the skies, making them both safer for travelers and more effective for our national security.

To recognize the men and women who work in the transportation industry and who contribute to our Nation's well-being and defense, the Congress, by joint resolution approved May 16, 1957, as amended (36 U.S.C. 120), has designated the third Friday in May of each year as “National Defense Transportation Day,” and, by joint resolution approved May 14, 1962, as amended (36 U.S.C. 133), has declared that the week during which that Friday falls be designated as “National Transportation Week.”

NOW, THEREFORE, I, DONALD J. TRUMP, President of the United States of America, do hereby proclaim Friday, May 19, 2017, as National Defense Transportation Day and May 14 through May 20, 2017, as National Transportation Week. I encourage all Americans to celebrate these observances with appropriate ceremonies and activities to learn more about how our transportation system contributes to the security of our citizens and the prosperity of our Nation.

IN WITNESS WHEREOF, I have hereunto set my hand this twelfth day of May, in the year of our Lord two thousand seventeen, and of the Independence of the United States of America the two hundred and forty-first.

[FR Doc. 2017-10175

Filed 5-16-17; 11:15 am]

Billing code 3295-F7-P